DEPARTMENT OF ENERGY

Federal Energy Regulatory Commission

[Docket Nos. ER05-6-023, EL04-135-025, EL02-111-043, and EL03-212-039]

Midwest Independent Transmission System Operator, Inc.; Ameren Services Co., et al.; Notice of Filing

July 1, 2005.

Take notice that on June 24, 2005, PJM Interconnection, L.L.C. (PJM) amended its May 17, 2005 filing in the above-captioned dockets. The May 17, 2005 filing revised Schedule 12 of the PJM open access transmission tariff. Specifically, on May 17 PJM filed two tariff sheets designated as “Fourth Revised Sheet No. 270A.” By the June 24 amendment, PJM seeks to designate the second “Fourth Revised Sheet No. 270A,” as “Original Sheet No. 270A.01.” PJM requests an effective date of June 1, 2005.

PJM states that copies of this filing have been served on all PJM members and the utility regulatory commissions in the PJM region.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First Street, NE., Washington, DC 20426.

The filing in the above proceeding is accessible in the Commission's eLibrary system. It is also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Comment Date: 5 p.m. on July 11, 2005.

Magalie R. Salas,
Secretary.

[FR Doc. E5-3606 Filed 7-7-05; 8:45 am]

BILLING CODE 6717-01-P